DEPARTMENT OF TRANSPORTATION

Federal Aviation Administration

14 CFR Part 39

[Docket No. 2003-CE-28-AD; Amendment 39-13382; AD 2003-24-13]

RIN 2120-AA64

Airworthiness Directives; Cessna Aircraft Company Models 172R, 172S, 182S, 182T, T182T, 206H, and T206H Airplanes

AGENCY: Federal Aviation Administration, DOT.

ACTION: Final rule; correction.

SUMMARY: This document makes a correction to Airworthiness Directive (AD) 2003-24-13, which was published in the Federal Register on December 4, 2003 (68 FR 67789), and applies to certain Cessna Aircraft Company (Cessna) Models 172R, 172S, 182S, 182T, T182T, 206H, and T206H airplanes that are equipped with a Honeywell KAP 140 autopilot computer system installed on the center instrument control panel near the throttle. We inadvertently duplicated affected airplane serial numbers and included a serial number that should not be affected by this AD in the applicability section. This action corrects the applicability section of AD 2003-24-13, Amendment 39-13382.

EFFECTIVE DATE: The effective date of this AD remains January 20, 2004.

FOR FURTHER INFORMATION CONTACT: Dan Withers, Aerospace Engineer, Wichita Aircraft Certification Office (ACO), FAA, 1801 Airport Road, Mid-Continent Airport, Wichita, Kansas 67209; telephone: (316) 946-4196; facsimile: (316) 946-4407.

SUPPLEMENTARY INFORMATION:

Discussion

On November 25, 2003, FAA issued AD 2003-24-13, Amendment 39-13382 (68 FR 67789, December 4, 2003), which applies to certain Cessna Models 172R, 172S, 182S, 182T, T182T, 206H, and T206H airplanes that are equipped with a Honeywell KAP 140 autopilot computer system installed on the center instrument control panel near the throttle. This AD requires you to install an update to the operating software of the KAP 140 autopilot computer system, change the unit's part number, and change the software modification identification tag.

Need for the Correction

The FAA inadvertently duplicated affected airplane serial numbers for Model T206H airplanes in the applicability section of this AD. We also inadvertently included serial number T20608368 for Model T206H airplanes in the applicability section of this AD that is not affected by this AD. This correction is needed to ensure that the affected airplane owners/operators do not have unnecessary action performed on their airplanes.

Correction of Publication

Accordingly, the publication of December 4, 2003 (68 FR 67789), of Amendment 39-13382; AD 2003-24-13, which was the subject of FR Doc. 03-30075, is corrected as follows:

§ 39.13 [Corrected]

On page 67791, in section 39.13 [Amended], 2., replace paragraph (c) of the AD with the following text:

``What Airplanes Are Affected by This AD?

(c) This AD affects the following airplane models and serial numbers that are:

(1) equipped with a KAP 140 autopilot computer system, part number (P/N) 065-00176-2602, P/N 065-00176-5402, or P/N 065-00176-7702; and

(2) certificated in any category;

Model | Serial No.
172R | 17280001 through 17281073, 17281075 through 17281127, and 17281130
172S | 172S8001 through 172S9195, 172S9197, 172S9198, and 172S9200 through 172S9203
182S | 18280001 through 18280944
182T | 18280945 through 18281064, 18281067 through 18281145,18281147 through 18281163, 18281165 through 18281167, and 18281172
T182T | T18208001 through T18208109, and T18208111 through T18208177
206H | 20608001 through 20608183, 20608185, 20608187, and 20608188
T206H | T20608001 through T20608039, T20608041 through T20608367, T20608369 through T20608379, T20608381, T20608382, and T20608385”

Action is taken herein to correct this reference in AD 2003-24-13 and to add this AD correction to § 39.13 of the Federal Aviation Regulations (14 CFR 39.13).

The effective date remains January 20, 2004.

Issued in Kansas City, Missouri, on December 16, 2003.
Michael Gallagher,
Manager, Small Airplane Directorate, Aircraft Certification Service.

[FR Doc. 03-31667 Filed 12-29-03; 8:45 am]

BILLING CODE 4910-13-P